COMMODITY FUTURES TRADING COMMISSION

17 CFR Part 1

Fees for Reviews of the Rule Enforcement Programs of Designated Contract Markets and Registered Futures Associations; Correction

AGENCY: Commodity Futures Trading Commission.

ACTION: Notification of 2021 schedule of fees; correction.

SUMMARY: The Commodity Futures Trading Commission (Commission) is correcting a document published in the Federal Register on June 17, 2022. The document contained incorrect assessed fee data for four of the entities in Table 2. This document corrects the data contained in those inaccurate sixteen cells in Table 2.

DATES: Each self-regulatory organization is required to remit electronically the applicable fee on or before August 16, 2022.

FOR FURTHER INFORMATION CONTACT: Joel Mattingley, Chief Financial Officer, Commodity Futures Trading Commission; (202) 418-5310; Three Lafayette Centre, 1155 21st Street NW, Washington, DC 20581; jmattingley@cftc.gov. For information on electronic payments, contact Jennifer Fleming; (202) 418-5034; jfleming@cftc.gov.

SUPPLEMENTARY INFORMATION:

Correction

In FR Rule Doc. 2022-13141, appearing on page 36409 in the Federal Register of Friday, June 17, 2022, Table 2—Schedule of Fees is corrected to read as follows:

Table 2—Schedule of Fees
| 3-Year average actual costs | 3-Year total volume (%) | Adjusted volume costs | 2021 assessed fee
Cantor Futures Exchange, L.P | $26,418 | 0.03 | $13,319 | $13,319
CBOE Futures Exchange, LLC | 26,625 | 1.24 | 17,482 | 17,482
Chicago Board of Trade | 27,058 | 33.31 | 125,158 | 27,058
Chicago Mercantile Exchange, Inc | 293,282 | 42.97 | 290,666 | 290,666
Eris Exchange, LLC | 11,057 | 0.00 | 5,540 | 5,540
ICE Futures U.S., Inc | 105,620 | 6.59 | 74,885 | 74,885
Minneapolis Grain Exchange, Inc | 13,321 | 0.05 | 6,813 | 6,813
Nasdaq OMX Futures Exchange, Inc | 37,051 | 0.27 | 19,444 | 19,444
New York Mercantile Exchange/Commodity Exchange, Inc | 49,377 | 15.11 | 75,328 | 49,377
Nodal Exchange, LLC | 11,825 | 0.08 | 6,180 | 6,180
North American Derivatives Exchange, Inc | 48,248 | 0.21 | 24,844 | 24,844
OneChicago, LLC Futures Exchange | 20,425 | 0.13 | 10,648 | 10,648
Subtotal | 670,307 | 100.00 | 670,307 | 546,255
National Futures Association | 538,738 |  |  | 538,738
Total | 1,209,044 | 100.00 | 670,307 | 1,084,993
Columns may not add due to rounding.

Issued in Washington, DC, on this 7th day of July, 2022, by the Commission.
Robert Sidman,
Deputy Secretary of the Commission.

[FR Doc. 2022-14820 Filed 7-11-22; 8:45 am]

BILLING CODE 6351-01-P